DEPARTMENT OF DEFENSE

Department of the Army, Corps of Engineers

Intent To Prepare a Draft Environmental Impact Statement (DEIS) for a Dredge and Fill Permit Application for the Farmland Hydro LP (FHLP) Proposed Mine Project in Hardee County, Florida

AGENCY: U.S. Army Corps of Engineers, Department of Defense.

ACTION: Notice of intent.

SUMMARY: Pursuant to section 404 of the Clean Water Act, (33 U.S.C. 1344) the U.S. Army Corps of Engineers has regulatory authority to permit the discharge of dredge and fill material into wetlands and other waters of the United States. In compliance with its responsibilities under the National Environmental Policy Act (NEPA) of 1969, (41 U.S.C. 4321 et seq.) the Jacksonville District, U.S. Army Corps of Engineers intends to prepare a DEIS in conjunction with review of a dredge and fill permit application for the FHLP Hardee County Mine Project.

FOR FURTHER INFORMATION CONTACT: Ronald H. Silver, (904) 232-2502, West Permits Branch, Regulatory Division, P.O. Box 4970, Jacksonville, Florida 32232-0019.

SUPPLEMENTARY INFORMATION: FHLP proposes to construct and operate a phosphate rock mine within its 15,000-acre property in Hardee County near the rural community of Ona, Florida. The phosphate rock will be converted elsewhere to a form that can be used as an essential crop nutrient or for other applications such as consumer products.

The project will include mining, clay storage, reclamation, and a beneficiation plant for washing and refinement of the rock, including various support facilities. FHLP proposes to use electric draglines to remove and set aside the surface soils overlying the ore (“overburden”), and excavate the phosphate ore (“matrix”) for beneficiation.

After excavation by the dragline, the matrix is mixed with water to form a slurry, which is then pumped through pipelines to the beneficiation facility. During beneficiation, the phosphate rock is separated from the sand and clay, which are returned to the mine for use in reclamation.

Areas proposed for mining include wetlands and related areas under Corps jurisdiction pursuant to section 404 of the Clean Water Act. This project has been proceeding under the “ecosystem management team permitting” (“team permitting”) process established by state law. The Corps, the U.S. Environmental Protection Agency (EPA) and the U.S. Fish and Wildlife Service (FWS) have been participating in the identification of issues, review and approval of methodologies for site assessment, and the evaluation of existing conditions within the project boundaries. FHLP is preparing applications for consideration by the permitting team and has advised the Corps of its intent to submit an application for approval under section 404 for mining, reclamation and enhancement of wetlands and related areas. The Corps has determined that a site specific DEIS will be prepared prior to issuance of section 404 authorization for these activities.

Some areas of the site are being proposed for enhancement as part of the mitigation for mining impacts or “net ecosystem benefits” as required by the state team permitting program. Impacts to these areas resulting from enhancement efforts, including benefits, will be evaluated. Other wetland areas will be preserved and considered in the assessment of the project.

Current site conditions have been evaluated using methodologies for assessment of wetlands function and boundaries, wildlife habitat and usage (including protected species), surface water quality and flow, ground water conditions, and impacts from agriculture and other man-induced changes.

Alternatives: One aspect of team permitting has been a focused and continuing effort to involve the public, through working groups and public meetings. Members of the local community, environmental groups and potentially affected neighboring interests have been invited to participate and have given substantial input to the identification of issues and alternatives. The alternatives analysis conducted to date will be utilized in the preparation of the DEIS.

Alternatives to be considered include the following:

No Action Alternative: As required by the CEQ Regulations, the Corps must consider the implications of the “No Action” alternative (no issuance of required section 404 permits).

Alternative mining and clay disposal scenarios: The agency permitting team members have considered a number of alternative mining and clay disposal scenarios, with various degrees and patterns of wetlands preservation, disturbance and reclamation and various effects on the economic viability of the project. These alternatives have also included different alignments for a proposed wildlife corridor system to be established through a combination of preservation, enhancement and reclamation of wetlands and upland systems.

Alternative water supply sources and water management: Members of the permitting team have suggested analysis of options for water supply other than the traditional use of groundwater. This alternatives review will consider ways of reducing or avoiding dependence on groundwater resources.

Alternative mining and reclamation methodologies: Options for plant site location, matrix excavation and transport, ore processing, effluent disposal, waste clay and sand disposal, reclamation, and product transport will be evaluated.

Postponement of Action: Delay of the proposed action will be reviewed.

Other alternatives identified under the scoping process will also be addressed.

Issues: The EIS will consider impacts on wetlands, protected species, fish and wildlife values, conservation, flood hazards, floodplain values, land use, recreation, water supply and conservation, water quality, energy needs, health, economics, historic properties, safety, food and fiber production, mineral needs, considerations of property ownership, and, in general, the needs and welfare of the people, and other issues identified through scoping, public involvement, and interagency coordination.

Scoping: Public meetings have been conducted since mid-1998 under the Ecosystem Management/Team Permitting process established in sections 403.075 and 403.0752, Florida Statutes. Issues raised by public participants in the Team Permitting process will be incorporated into the scoping process. At this time, there are no plans for a public scoping meeting. Alternatives noted above are considered to be the primary areas of review at this time, although affected federal, state and local governments and governmental agencies, affected Indian tribes and other interested private organizations and parties are strongly encouraged to support additional alternatives for consideration and otherwise submit comments on the scope of the DEIS.

Public Involvement: We invite the participation of affected federal, state and local agencies, affected Indian tribes, and other interested private organizations and parties by submitting written comments to the information contact provided in this notice.

Coordination: The proposed action is being coordinated with the U.S. Fish and Wildlife (FWS) and the National Marine Fisheries Service under Section 7 of the Endangered Species Act, with the FWS under the Fish and Wildlife Coordination Act, and with the following State of Florida agencies: State Historic Preservation Officer, Fish & Wildlife Conservation Commission, Department of Environmental Protection, Bureau of Mine Reclamation.

Other Environmental Review and Consultation: The proposed action would involve application (to the State of Florida) for Water Quality Certification pursuant to Section 401 of the Clean Water Act, and certification of State lands, easements, and rights of way.

DEIS Preparation: It is estimated that the DEIS will be available to the public on or about February 28, 2001.

Dated: August 1, 2000.
John R. Hall,
Chief, Regulatory Division.

[FR Doc. 00-20570 Filed 8-11-00; 8:45 am]

BILLING CODE 3710-AJ-M